DEPARTMENT OF HEALTH AND HUMAN SERVICES

Centers for Disease Control and Prevention

Delegation of Authority

Notice is hereby given that I have delegated to the Director, National Institute for Occupational Safety and Health (NIOSH), Centers for Disease Control and Prevention (CDC), without authority to redelegate, the authority vested in the Director, CDC, under Section 2695, Title XXVI of the Public Health Service Act (42 U.S.C. 300ff-131), and the Ryan White HIV/AIDS Treatment Extension Act of 2009 (Pub. L. 111-87), as amended.

This delegation became effective on August 27, 2018. I hereby affirm and ratify any actions taken that involve the exercise of the authorities delegated herein prior to the effective date of this delegation.

Dated: October 1, 2018.
Robert R. Redfield,
Director, Centers for Disease Control and Prevention.

[FR Doc. 2018-21672 Filed 10-4-18; 8:45 am]

BILLING CODE 4163-18-P